DEPARTMENT OF COMMERCE

National Institute of Standards and Technology

XRIN 0693-XC137

Request for Comments on the U.S. Artificial Intelligence Safety Institute's Draft Document: Managing Misuse Risk for Dual-Use Foundation Models

AGENCY: U.S. Artificial Intelligence Safety Institute (AISI), National Institute of Standards and Technology (NIST), U.S. Department of Commerce.

ACTION: Notice; request for comments.

SUMMARY: The U.S. Artificial Intelligence Safety Institute (AISI), housed within NIST at the Department of Commerce, requests comments on a draft document responsive to an Executive order on Safe, Secure, and Trustworthy Development and Use of Artificial Intelligence (AI) issued on October 30, 2023: NIST AI 800-1, Managing Misuse Risk for Dual-Use Foundation Models, found at https://nvlpubs.nist.gov/nistpubs/ai/NIST.AI.800-1.ipd.pdf.

DATES: Comments containing information in response to this notice must be received on or before September 9, 2024, at 11:59 p.m. eastern time. Submissions received after that date may not be considered.

ADDRESSES: The draft of NIST AI 800-1, Managing Misuse Risk for Dual-Use Foundation Models is available for review and comment on the U.S. AI Safety Institute website at https://nvlpubs.nist.gov/nistpubs/ai/NIST.AI.800-1.ipd.pdf and at www.regulations.gov under docket number 240802-0209.

Comments may be submitted:

By email:

• Comments on NIST AI 800-1 may be sent electronically to NISTAI800-1@nist.gov with “NIST AI 800-1, Managing the Risk of Misuse for Dual-Use Foundation Models” in the subject line. Electronic submissions may be sent as an attachment in any of the following unlocked formats: HTML; ASCII; Word; RTF; or PDF.

Via www.regulations.gov:

• To submit electronic public comments via the Federal eRulemaking Portal.

1. Go to www.regulations.gov and enter 240802-0209 in the search field,

2. Click the “Comment Now!” icon, complete the required fields, including the relevant document number and title in the subject field, and

3. Enter or attach your comments.

• Written comments may also be submitted by mail to Information Technology Laboratory, ATTN: AI EO Document Comments, National Institute of Standards and Technology, 100 Bureau Drive, Mail Stop 8900, Gaithersburg, MD 20899-8900.

Comments containing references, studies, research, and other empirical data that are not widely published should include copies of the referenced materials. All submissions, including attachments and other supporting materials, will become part of the public record and subject to public disclosure.

AISI will not accept comments accompanied by a request that part or all of the material be treated confidentially because of its business proprietary nature or for any other reason. Therefore, do not submit confidential business information or otherwise sensitive, protected, or personal information, such as account numbers, Social Security numbers, or names of other individuals.

All relevant comments received by the deadline will be posted at https://www.regulations.gov under docket number 240802-0209 and at https://www.nist.gov/artificial-intelligence/executive-order-safe-secure-and-trustworthy-artificial-intelligence. Attachments and other supporting materials may become part of the public record and may be subject to public disclosure.

FOR FURTHER INFORMATION CONTACT: For questions about this request for comments contact: christina.knight@nist.gov or Christina Knight, U.S. Department of Commerce, 1401 Constitution Ave. NW, Washington, DC ((240) 961-8688). Direct media inquiries to NIST's Office of Public Affairs at (301) 975-2762. Users of telecommunication devices for the deaf, or a text telephone may call the Federal Relay Service toll free at 1-800-877-8339. Accessible Format: NIST will make the request for comments available in alternate formats, such as Braille or large print, upon request by persons with disabilities.

SUPPLEMENTARY INFORMATION: AISI requests comments on the draft of Managing Misuse Risk for Dual-Use Foundation Models.

AISI welcomes input on all aspects of the draft guidance, such as modifications to the included objectives, practices, and recommendations; suggestions for additions or deletions; and areas where further empirical evidence is needed. The questions below are optional and intended to prompt feedback:

1. What practical challenges exist to meeting the objectives outlined in the guidance?

2. How can the guidance better address the ways in which misuse risks differ based on deployment (e.g., how a foundation model is released) and modality (text, image, audio, multimodal, and others)?

3. How can the guidance better reflect the important role for real-world monitoring in making risk assessments?

4. How can the guidance's examples of documentation better support communication of practically useful information while adequately addressing confidentiality concerns, such as protecting proprietary information?

5. How can the guidance better enable collaboration among actors across the AI supply chain, such as addressing the role of both developers and their third-party partners in managing misuse risk?

Authority: Sections 4.1(a)(ii) and 4.1(a)(ii)(A) of Executive Order 14110 of Oct. 30, 2023; 15 U.S.C. 272.

Alicia Chambers,
NIST Executive Secretariat.

[FR Doc. 2024-17614 Filed 8-7-24; 8:45 am]

BILLING CODE 3510-13-P